DEPARTMENT OF COMMERCE

National Oceanic and Atmospheric Administration

RIN 0648-XT64

NOAA's Arctic Vision and Strategy; Comment Period Extension

AGENCY: National Oceanic and Atmospheric Administration.

ACTION: Request for comments.

SUMMARY: NOAA wishes to ensure its Arctic Vision and Strategy document reaches the broadest possible audience and allows adequate time for review, and therefore is extending the public comment period by fifteen days.

The Arctic has profound significance for climate and functioning of ecosystems around the globe. The region is particularly vulnerable and prone to rapid change. Increasing air and ocean temperatures, thawing permafrost, loss of sea ice, and shifts in ecosystems are evidence of widespread and dramatic ongoing change. As a result, critical environmental, economic, and national security issues are emerging, many of which have significant impacts for human lives, livelihoods, and coastal communities. Though NOAA has numerous and diverse capabilities that support these emerging issues, a strategic approach that leverages NOAA's existing priorities and strengths, as well as those of our national and international partners, is needed. This document provides a high-level framework and six strategic goals to address NOAA's highest priorities in the region. It is based upon assumptions that the region will: continue to experience dramatic change; become more accessible to human activities; and, be a focus of increasing global strategic interest.

DATES: Comments must be submitted by June 25, 2010.

ADDRESSES: Submit comments by one of the following methods—

• Electronic Submissions: strategic.planning@noaa.gov.

• Mail: National Oceanic and Atmospheric Administration, Office of Program Planning and Integration, 1315 East-West Highway, Room 15749, Silver Spring, Maryland 20910.

FOR FURTHER INFORMATION CONTACT: Tracy Rouleau, Office of Program Planning and Integration, at strategic.planning@noaa.gov or (301) 713-1622 x187.

SUPPLEMENTARY INFORMATION: The original document published at 75 FR 25843, May 10, 2010; to view the document in its entirety, go to http://www.arctic.noaa.gov/.

NOAA invites comments on its: (a) vision for the Arctic; and (b) six strategic goals and five-year strategies for the Arctic.

Dated: May 25, 2010.
Laura K. Furgione,
Assistant Administrator, Office of Program Planning and Integration, National Oceanic and Atmospheric Administration.

[FR Doc. 2010-13043 Filed 5-28-10; 8:45 am]

BILLING CODE 3510-NW-S